DEPARTMENT OF THE INTERIOR

Bureau of Reclamation

Glen Canyon Dam Adaptive Management Work Group (AMWG), Notice of Meeting

AGENCY: Bureau of Reclamation, Interior.

ACTION: Cancellation of meeting.

SUMMARY: The Bureau of Reclamation is canceling the Adaptive Management Work Group Meeting scheduled for January 7-8, 2004, in Phoenix, Arizona due to additional time required to prepare the Fiscal Year 2005 budget and other agenda items. The meeting will be rescheduled for March 2004 and will be noticed in the Federal Register when arrangements have been made.

FOR FURTHER INFORMATION CONTACT: Dennis Kubly, telephone (801) 524-3715; faxogram (801) 524-3858; or via e-mail at dkubly@uc.usbr.gov.

Dated: November 26, 2003.
Dennis Kubly,
Chief, Adaptive Management Group, Environmental Resources Division, Upper Colorado Regional Office, Salt Lake City, Utah.

[FR Doc. 03-30680 Filed 12-10-03; 8:45 am]

BILLING CODE 4310-MN-P